DEPARTMENT OF AGRICULTURE

Forest Service

Information Collection: Federal Excess Personal Property and Firefighter Property Program Administration

AGENCY: Forest Service, Agriculture (USDA).

ACTION: Notice; request for comment.

SUMMARY: In accordance with the Paperwork Reduction Act of 1995, the Forest Service (Agency) is seeking comments from all interested individuals and organizations on the renewal of a currently approved information collection, Federal Excess Personal Property (FEPP) and Firefighter Property (FFP) Program Administration.

DATES: Comments must be received in writing on or before April 7, 2026 to be assured of consideration.

ADDRESSES: Comments concerning this notice should be addressed to: USDA, Forest Service, Michael Huneke, National FEPP/FFP Program Manager, Fire and Aviation Management; USDA Forest Service, C/O USDA Agricultural Marketing Service, 101 W Fulton Street, New Holland, PA 17557. Comments may also be submitted via email to: michael.huneke@usda.gov.

Comments submitted in response to this notice may be made available to the public through relevant websites and upon request. For this reason, please do not include in your comments information of a confidential nature, such as sensitive personal information or proprietary information. If you send an email comment, your email address will be automatically captured and included as part of the comment that is placed in the public docket and made available for public viewing. Please note that comments containing any routine notice about the confidentiality of the communication will be treated as public comments that may be made available to the public notwithstanding the inclusion of the routine notice.

The public may request that an electronic copy of the supporting documents for the information collection and/or any comments received be sent via return email. Requests should be emailed to michael.huneke@usda.gov The information collection request is posted online at https://www.regulations.gov/.

FOR FURTHER INFORMATION CONTACT: Michael Huneke, National FEPP/FFP Program Manager, Fire and Aviation Management; (484) 888-0005; michael.huneke@usda.gov. Individuals who are deaf, hard of hearing, or have a speech disability may call 711 to reach the Telecommunications Relay Service then provide the phone number of the person named as a point of contact for further information.

SUPPLEMENTARY INFORMATION:

Title: Federal Excess Personal Property (FEPP) and Firefighter Property (FFP) Program Administration.

OMB Number: 0596-0223.

Expiration Date of Approval: June 30, 2026.

Type of Review: Extension with Revision of a currently approved information collection.

Abstract: Federal Excess Personal Property (FEPP) and Firefighter Property (FFP) Program Cooperative Agreements are available to State forestry agencies. The program administration provides participating State agencies with excess Department of Defense and other Federal agencies' property and supplies to be used in firefighting and emergency services. The FEPP program loans property to the State who in turn sub-loans the equipment and supplies to fire departments. The FFP program transfers ownership of non-controlled property to either the State agency or the individual fire department.

A cooperative agreement collects information from the participating State agencies and outlines the requirements and rules for the cooperation. Each State forestry agency shall provide an Accountable Officer who will be responsible for the integrity of the program within their respective State. For this reason, FEPP and FFP collect the State forestry agency contact information, the information of the Accountable Officer, and the requirements of participation in the FEPP and FFP programs.

A cooperative agreement will be prepared by each State forestry agency that desires to participate in one or both programs. Participating State agencies must submit separate agreements if they desire to be participants in both programs. Agreements will be processed and maintained at the United States Department of Agriculture, Forest Service, Fire and Aviation Management, Partnerships, Cooperative Programs branch in each Forest Service Regional Office.

Because FEPP property belongs to the Forest Service, State Cooperators will use the Federal Excess Property Management Inventory System (FEPMIS) for all records, documentation, and audit processes involved in acquiring, management, and disposing of FEPP property. Forest Service property management staff will ensure information entered in FEPMIS is uploaded in the USDA National Finance Center database—Corporate Property Automated Information System—Personal Property (CPAIS-PP). Forest Service Property Management Officer (PMO) ensures records are updated and accurate. FEPMIS is the official property management database for the FFP program.

The authority to provide excess property to state agencies under the FEPP Program comes from the Federal Property and Administration Services Act of 1949, 40 U.S.C., Sec 483. The FFP Program is authorized under 10 U.S.C., Subtitle A, Part IV, Chapter 153, 2576b.

Affected Public: Individuals.

Estimated Annual Burden per Response: 1 hour and 2 minutes.

Estimated Annual Number of Respondents: 65.

Estimated Annual Number of Responses per Respondent: 302.

Estimated Total Annual Burden on Respondents: 570 hours.

Comment is Invited: Comment is invited on (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.Michael Huneke, National Program Manager, Federal Excess Personal Property and Firefighter Property Programs.

David Lytle,
Fire and Aviation, Safety and Occupational Health, Symbols, and Employee Support Services.

[FR Doc. 2026-02438 Filed 2-5-26; 8:45 am]

BILLING CODE 3411-15-P